DEPARTMENT OF THE INTERIOR

Fish and Wildlife Service

[FWS-R1-R-2010-N273; 1265-0000-10137-S3]

Hakalau Forest National Wildlife Refuge, Hawai‘i County, HI; Final Comprehensive Conservation Plan and Finding of No Significant Impact for Environmental Assessment

AGENCY: Fish and Wildlife Service, Interior.

ACTION: Notice of availability.

SUMMARY: We, the U.S. Fish and Wildlife Service, announce the availability of our final Comprehensive Conservation Plan (CCP) and Finding of No Significant Impact (FONSI) for the Environmental Assessment (EA) for the Hakalau Forest National Wildlife Refuge (Refuge). In this final CCP, we describe how we will manage this refuge for the next 15 years.

ADDRESSES: You may view or obtain copies of the final CCP and FONSI by any of the following methods. You may request a hard copy or CD-ROM.

Agency Web site: Download the CCP/FONSI at http://www.fws.gov/pacific/planning.

E-mail: FW1PlanningComments@fws.gov. Include “Hakalau Forest National Wildlife Refuge Final CCP” in the subject line of the message.

Mail: Hakalau Forest National Wildlife Refuge, 60 Nowelo Street, Suite 100, Hilo, HI 96720.

In-Person Viewing or Pickup: Hakalau Forest National Wildlife Refuge, 60 Nowelo Street, Suite 100, Hilo, HI 96720.

FOR FURTHER INFORMATION CONTACT: Jim Kraus, Refuge Manager, (808) 443-2300.

SUPPLEMENTARY INFORMATION:

Introduction

With this notice, we finalize the CCP process for the Hakalau Forest National Wildlife Refuge. We started this process through a notice of intent in the Federal Register (74 FR 8564; February 25, 2009). We released the draft CCP/EA to the public, announcing and requesting comments in a notice of availability in the Federal Register (75 FR 52546; August 26, 2010).

The Refuge is located on the Island of Hawai‘i. It encompasses two units: the Hakalau Forest Unit and the Kona Forest Unit. The Hakalau Forest Unit was established in 1985 to protect endangered forest birds and their rainforest habitat. The Hakalau Forest Unit encompasses 32,733 acres of land, located on the windward (eastern) slope of Mauna Kea, which supports a diversity of native birds and plants. The Kona Forest Unit, at 5,300 acres, was established in 1997 on the leeward (southwestern) slope of Mauna Loa to protect native forest birds and the `alalā, the endangered Hawaiian crow. The Kona Forest Unit supports diverse native bird and plant species, as well as rare habitats found in lava tubes and lava tube skylights.

We announce our decision and the availability of the FONSI for the final CCP for Hakalau Refuge in accordance with National Environmental Policy Act (NEPA) (40 CFR 1506.6(b)) requirements. We completed a thorough analysis of impacts on the human environment, which we included in the draft CCP/EA.

The CCP will guide us in managing and administering the Refuge for the next 15 years. Alternative B, as we described in the final CCP, is the foundation for the CCP.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

CCP Alternatives, Including Selected Alternative

During our CCP planning process we identified several issues. To address the issues, we developed and evaluated the following alternatives in our draft CCP/EA.

Alternative A (No Action)

Under Alternative A, we would continue existing Refuge management activities, including fencing projects currently under way at the Kona Forest Unit. Staff would conduct limited additional restoration of various koa forest habitats and predator control. Volunteer opportunities to assist Refuge staff with planting native plants would continue, along with public pig hunting. Refuge staff would provide limited outreach regarding management activities.

Alternative B (Preferred Alternative)

Under Alternative B, we would increase reforestation, restoration, and threat (e.g., predators, nonnative species, etc.) removal efforts. Additional areas in both units would be protected through fencing and increased management. Refuge staff, with the assistance of volunteers, would increase efforts to restore understory species in reforested areas. Staff would provide additional opportunities for outreach and environmental education and interpretation, while closing public hunting. We would work with partners and neighboring landowners to explore habitat protection and restoration opportunities, including the potential for Refuge boundary expansion. Opportunities for additional land acquisition would focus on protection of forest birds and their habitats in response to climate change concerns.

Alternative C

Under Alternative C, we would focus on maintaining existing koa forest and allowing natural regeneration of the understory on the Kona Forest Unit. We would place less emphasis on ungulate and predator removal. Additional grassland areas would be maintained for nēnē foraging. We would open additional areas of the Hakalau Forest Unit to the public. Fewer volunteer opportunities would be provided. As in Alternative B, we would explore habitat protection opportunities through acquisition.

Comments

We solicited comments on the draft CCP/EA from August 26, 2010, to September 15, 2010. We received 19 comments via letters, e-mails, or at the public open house on the draft CCP/EA, all of which were thoroughly evaluated. To address public comments, minor changes and clarifications were made to the final CCP where appropriate.

Selected Alternative

After considering the comments we received, we have selected Alternative B for implementation. Alternative B was the most supported alternative identified by the comments received. By implementing Alternative B, we will increase habitat supporting threatened and endangered species including the `alalā, `akiapōlā`au, Clermontia lindseyana, Cyanea stictophylla, and others. Major management actions will center on habitat protection through fencing, restoration and reforestation via an enhanced outplanting program, and threat mitigation by removal of predators, ungulates, and invasive weed species. Through partnering, opportunities for additional land acquisitions will focus on protection of forest birds and their habitats in response to concerns regarding climate change. Prioritizing data collection and research supporting adaptive management will occur. Additional outreach and environmental education opportunities will increase along with public use through a new interpretive trail and expanded volunteer program.

Public Availability of Documents

In addition to the methods in ADDRESSES, you can view or obtain documents at the following locations:

• Our Web site: http://www.fws.gov/hakalauforest/.

• During regular library hours at:

○ Hawai`i State Library (478 S. King Street, Honolulu, HI 96813)

○ Hilo Public Library (300 Waianuenue Avenue, Hilo, HI 96720)

○ Kailua-Kona Public Library (75-138 Hualālai Road, Kailua-Kona, HI 96740)

○ National Conservation Training Center Library (698 Conservation Way, Shepherdstown, WV 25443)

Dated: May 17, 2011.
Richard R. Hannan,
Acting Regional Director, Region 1, Portland, Oregon.

[FR Doc. 2011-12564 Filed 5-20-11; 8:45 am]

BILLING CODE 4310-55-P